DEPARTMENT OF HEALTH AND HUMAN SERVICES

Centers for Disease Control and Prevention

Citizens Advisory Committee on Public Health Service Activities and Research at Department of Energy (DOE) Sites: Fernald Health Effects Subcommittee

In accordance with section 10(a)(2) of the Federal Advisory Committee Act (Pub.L. 92-463), the Agency for Toxic Substances and Disease Registry (ATSDR) and the Centers for Disease Control and Prevention (CDC) announce the following meeting.

Name: Citizens Advisory Committee on Public Health Service Activities and Research at Department of Energy (DOE) Sites: Fernald Health Effects Subcommittee.

Action: Time Change.

Old Time and Date: 9 a.m.-4 p.m., August 22, 2001.

New Time and Date: 1 p.m.-8 p.m., August 22, 2001.

Published on: Federal Register: July 27, 2001 (Volume 66, Number 145) (Notices) (Page 39178) from the Federal Register online via GPO access (wais.access.gpo.gov) (DOCID:fr27jy01-84) (Page 39178)

Place: The Plantation Conference Center, 9660 Dry Fork Road, Harrison, Ohio 45030, telephone, 513/367-5610.

Status: Open to the public, limited only by the space available. The meeting room accommodates approximately 50 people.

Agenda items are subject to change as priorities dictate.

Contact Person for More Information: Mike Donnelly, Deputy Chief, Radiation Studies Branch, Division of Environmental Hazards and Health Effects, NCEH, CDC, 1600 Clifton Road, NE. (E-39), Atlanta, GA 30333, telephone 404/498-1800, fax 404/498-1811.

The Director, Management Analysis and Services Office, has been delegated the authority to sign Federal Register notices pertaining to announcements of meetings and other committee management activities for both CDC and ATSDR.

Dated: August 14, 2001.
Carolyn J. Russell,
Director, Management Analysis and Services Office, Centers for Disease Control and Prevention.

[FR Doc. 01-20875 Filed 8-17-01; 8:45 am]

BILLING CODE 4163-18-P